DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 7, 2019.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC, or at http://regulations.gov.

This notice of receipt of applications for special permit is published in accordance with part 107 of the Federal hazardous materials transportation law (49 U.S.C. 5117(b); 49 CFR 1.53(b)).

Issued in Washington, DC, on May 2, 2019.
Donald P. Burger,
Chief, General Approvals and Permits Branch.

Application No. | Applicant | Regulation(s) affected | Nature of the special permits thereof
Special Permits Data
20861-N | AYALYTICAL INSTRUMENTS INC | 173.120(c) | To authorize the use of an alternate method for determining flash point for Class 3 materials. (modes 1, 2, 3, 4, 5)
20862-N | CUMMINS INC | 172.101(j), 173.185(a) | To authorize the transportation in commerce of low production lithium ion batteries exceeding 35 kg by cargo-only aircraft. (mode 4)
20864-N | SALMON RIVER HELICOPTERS, INC | 172.101(j), 172.200, 175.33 | To authorize the transportation in commerce of certain materials forbidden for transport via passenger-carrying aircraft by passenger-carrying aircraft. (mode 5)
20865-N | PORSCHE LOGISTIK GMBH | 172.101(j) | To authorize the transportation in commerce of lithium batteries exceeding 35 kg by cargo-only aircraft. (mode 4)
20866-N | ARGON ST INC | 172.101(j) | To authorize the transportation in commerce of lithium ion batteries contained in equipment with a net weight in excess of 35 kg by cargo-only aircraft. (mode 4)
20867-N | Advanced Material Systems Co. (AMS) | 173.302 | To authorize the transportation in commerce of non-DOT specification cylinders. (modes 4, 5)
20868-N | DYNO NOBEL INC | 176.164(e) | To authorize the transportation in commerce of Class 1 materials by vessel without having two sets of breathing apparatus and a power-operated fire pump. (ferry vessel)
20869-N | BALL METALPACK, LLC | 173.304a(d)(3)(ii) | To authorize the manufacture, mark, sale, and use of non-DOT specification inside containers for the transportation of certain Division 2.1 gases. (modes 1, 2, 3)
20871-N | CASTLE AVIATION, INC | 172.203(a), 175.700(b)(2)(ii), 175.701(a) | To authorize the transportation in commerce of Class 7 materials with a transport index greater than that which the HMR authorizes. (mode 4)
20874-N | ZHEJIANG TERONG MACHINERY CO., LTD | 173.304 | To authorize the transportation in commerce of 2P containers containing liquefied gas.
20875-N | AIR LIQUIDE ADVANCED MATERIALS INC | 173.3(d)(2) | To authorize the transportation in commerce of Division 4.2 materials overpacked in salvage cylinders. (modes 1, 3)
20876-N | Sodastream USA | 178.71 | To authorize the transportation in commerce of UN pressure vessels that use alternative valve standards than are required by the HMR. (modes 1, 2, 3)

[FR Doc. 2019-09382 Filed 5-7-19; 8:45 am]

BILLING CODE 4909-60-P